DEPARTMENT OF STATE

[Public Notice: 9480]

Notice of Reopening of Public Comment Period: Re-Consideration Concerning the Scope of Authorizations in a Presidential Permit Issued to Plains LPG Services, L.P., in May 2014 for Existing Pipeline Facilities on the Border of the United States and Canada Under the St. Clair River

AGENCY: Department of State.

ACTION: Notice.

SUMMARY: On January 25, 2016, the Department of State (Department) published a Notice of Re-Consideration Concerning the Scope of Authorizations in a Presidential Permit Issued to Plains LPG Services, L.P. in May 2014 for Existing Pipeline Facilities on the Border of the United States and Canada under the St. Clair River (Notice 81 FR 4081). The Department requested comment within 30 days of the publication date of the Notice, i.e., February 24, 2016. The Department is reopening the public comment period for the Notice for an additional 30 days.

The Department's consideration of the Presidential Permit for the St. Clair pipeline facilities is pursuant to Executive Order (E.O.) 13337, which delegates to the Secretary of State the President's authority to receive applications for permits for the construction, connection, operation, or maintenance of a range of facilities at the borders of the United States, including pipelines for liquid petroleum products, and to issue or deny such Presidential Permits upon a national interest determination. The Department also is soliciting the views of concerned federal agencies. Consistent with E.O. 13337, the Department will determine whether issuance of a new Presidential Permit for pipeline border facilities, as discussed in the Notice (81 FR 4081), would serve the U.S. national interest.

DATES: Interested parties are invited to submit comments within 30 days of the publication date of this notice on http://www.regulations.gov with regard to whether issuing a new Presidential Permit for two of the St. Clair pipelines authorizing the transport of crude and other liquid hydrocarbons would serve the national interest. To submit a comment, go to http://www.regulations.gov, enter the title of this Notice into the search field and follow the prompts.

Comments are not private. They will be posted on the site. The comments will not be edited to remove identifying or contact information, and the Department cautions against including any information that one does not want publicly disclosed. The Department requests that any party soliciting or aggregating comments received from other persons for submission to the Department inform those persons that the Department will not edit their comments to remove identifying or contact information.

FOR FURTHER INFORMATION CONTACT: Office of Energy Diplomacy, Energy Resources Bureau (ENR/EDP/EWA) Department of State 2201 C St. NW., Ste. 4428, Washington, DC 20520, Attn: Sydney Kaufman, Tel: 202-647-2041. Email: kaufmans@state.gov.

SUPPLEMENTARY INFORMATION: Additional information concerning the St. Clair pipeline facilities can be found at http://www.state.gov/e/enr/applicant/applicants/index.htm. Documents related to the Department of State's review of the application for a Presidential Permit can be found at http://www.state.gov/e/enr/applicant.

Dated: March 9, 2016.
Chris Davy,
Deputy Director, Energy Resources Bureau, Energy Diplomacy, (ENR/EDP/EWA), Bureau of Energy Resources, U.S. Department of State.

[FR Doc. 2016-05836 Filed 3-14-16; 8:45 am]

BILLING CODE 4710-AE-P